SMALL BUSINESS ADMINISTRATION

Revocation of License of Small Business Investment Company

Pursuant to the authority granted to the United States Small Business Administration by the Final Order of the United States District Court for the Southern District of New York, dated September 29, 2003, the United States Small Business Administration hereby revokes the license of Vega Capital Corporation., a New York Corporation, to function as a small business investment company under the Small Business Investment Company License No. 02/02-0270 issued to Vega Capital Corporation on August 5, 1968, reissued June 1978 and said license is hereby declared null and void as of September 30, 2003.

Dated: October 22, 2003.
Small Business Administration.
Jeffrey D. Pierson,
Associate Administrator for Investment.

[FR Doc. 03-27202 Filed 10-28-03; 8:45 am]

BILLING CODE 8025-01-P